DEPARTMENT OF AGRICULTURE

Forest Service

Ochoco National Forest, Lookout Mountain Ranger District; Oregon; East Maurys Fuels and Vegetation Management Project

AGENCY: Forest Service, USDA.

ACTION: Notice of intent to prepare an environmental impact statement.

SUMMARY: The USDA Forest Service is proposing to conduct timber harvest, noncommercial thinning, and fuels reduction activities in the eastern half of the Maury Mountains. The proposal includes the connected action of constructing 20.9 miles of road. The project area covers approximately 24,250 acres.

DATES: Comments concerning the scope of the analysis must be received by October 1, 2005. The draft environmental impact statement is expected by May 2006 and the final environmental impact statement is expected in November 2006.

ADDRESSES: Send written comments to Arthur J. Currier, District Ranger, Lookout Mountain Ranger District, Ochoco National Forest, 3160 NE Third Street, Prineville, Oregon 97754. Alternately, electronic comments can be sent to comments-pacificnorthwest-ochoco@fs.fed.us.

FOR FURTHER INFORMATION CONTACT: Kathy Farrell, Project Leader, at the address listed above.

SUPPLEMENTARY INFORMATION:

Purpose and Need for Action

The purpose of this proposal is to (1) maintain and increase late and old structure (LOS) stands especially in areas deficient of large trees; (2) reduce the amount of dense, overstocked stands and improve health and vigor, while maintaining a mosaic of tree species and ages; (3) maintain and increase diversity of native plant communities, such as aspen and broadleaf shrubs; (4) reduce juniper encroachment and restore grass, forb, and shrub communities on western juniper sites; and, (5) reduce fuel loads and the potential for high-intensity wildfires.

Proposed Action

The Lookout Mountain Ranger District is proposing to manage vegetation through commercial timber harvest, noncommercial thinning, and fuel reduction activities. The proposed action includes approximately 6,850 acres of commercial harvest, 11,130 acres of noncommercial thinning, and 11,140 acres of fuel reduction treatments. Fuel reduction treatments include approximately 7,500 acres of prescribed fire, and 3,700 acres of grapple and hand piling. Commercial harvest includes tractor, skyline, and horse logging systems. Areas identified as tractor logging are areas where heavy equipment, such as logging tractors, will be used to remove a commercial product. Road construction activities include 20.9 miles of new road construction, 21.8 miles of reconstructing roads on an existing road bed, and opening 24.6 miles of roads that are currently closed. Newly constructed roads and roads that are reopened would be closed after harvest activities are complete.

Possible Alternatives

A this time, the Forest Service is considering at least three alternatives. The no action alternative is the baseline for comparison and will analyze the effects of natural processes. Ongoing activities, such as road maintenance, noxious weeds treatments, and recreational use, would continue. Access for public and administrative purposes would continue on the existing transportation system. Alternative 2, the proposed action, will analyze the effects of timber harvest, noncommercial thinning, and prescribed fire activities, along with the connected road construction activities. The third alternative being considered at this time would analyze the effects of only conducting noncommercial thinning and prescribed fire activities. Other possible alternatives may reduce or restrict the amount of road construction activities. The action alternatives will examine combinations and degrees of activities in order to meet the purpose of and need for action and concerns stated during the public scoping process.

Responsible Official

The responsible official for this project is Larry Timchak, Forest Supervisor, Ochoco National Forest, 3160 NE Third Street, Prineville, Oregon 97754.

Nature of Decision To Be Made

The Forest Supervisor will decide whether to conduct timber harvest, noncommercial thinning, and prescribe fire treatments within the East Maurys project area. The decision will be based on the information disclosed in the EIS, and the goals, objectives, and desired future conditions as stated in the Forest Plan. The responsible official will consider significant issues, public comments, environmental consequences, and compliance with applicable laws, regulations, and policies in making his decision. The rationale for the decision will be stated in the Record of Decision for the project.

Scoping Process

The Lookout Mountain Ranger District intends to scope for information by mailing letters to persons and organizations interested or potentially affected by the proposed action. This project will also be included in the Ochoco National Forest Schedule of Projects for the duration of the environmental analysis.

Preliminary Issues

The Lookout Mountain Ranger District in cooperation with the Crook County Natural Resources Planning Committee has identified one preliminary issue related to the amount of proposed road construction. The Lookout Mountain Ranger District will complete a roads analysis prior to issuing the Draft Environmental Impact Statement. Alternatives that reduce or restrict road construction may be considered.

Comment Requested

This notice of intent is part of the scoping process that will guide the development of the environmental impact statement. The primary purpose of scoping is to gather public comments, issues, and concerns regarding the proposed action. Comments, issues, and concerns may be used to formulate alternatives. Comments are most helpful if they are as specific as possible and relate to the proposed action. Comments should include the name, address, and, if possible, telephone number of the commenter. Electronic comments must be submitted as part of the actual e-mail message, or as an attachment in plain text (.txt), Microsoft Word (.doc), rich text format (.rtf), or portable document format (.pdf). Comments received in response to this solicitation, including the names and addresses of those who comment, will be considered part of the public record and will be available for public inspection.

Early Notice of Importance of Public Participation in Subsequent Environmental Review

A draft environmental impact statement will be prepared and made available for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. Court. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: August 3, 2005.
Arthur J. Currier,
District Ranger.

[FR Doc. 05-16123 Filed 8-12-05; 8:45 am]

BILLING CODE 3410-11-M